DEPARTMENT OF JUSTICE

Office of Justice Programs

[OJP (NIJ) Docket No. 1712]

Unmanned Aircraft Systems Evaluation

AGENCY: National Institute of Justice (NIJ), Justice.

ACTION: Notice of request for information.

SUMMARY: NIJ is soliciting information on the operational use of Unmanned Aircraft Systems (UAS) in support of law enforcement. The focus of the study is on the use of UAS for crash scene reconstruction; however, information on alternative uses of UAS in law enforcement is also requested.

The National Criminal Justice Research, Test and Evaluation Center (NIJ RT&E Center) is performing an operational evaluation of UAS for Crash Scene Reconstruction. The objective of this evaluation is to evaluate the utility of a UAS to support crash scene reconstruction in an operational law-enforcement setting. In particular, the study will determine whether a UAS could be used to improve crash scene reconstruction in terms of quality, safety, timeliness, or other metrics. Based upon previous investigations, the Center has identified a number of agencies that have operational UAS capabilities configured to support law enforcement. The Center is now seeking to partner with those or other interested agencies in order to complete the operational evaluation.

Information Sought: The Center is seeking law enforcement agencies with which to partner in an operational evaluation of UAS technology for Crash Scene Reconstruction. This evaluation will, at the discretion of the partnering agency, occur during normal operations or during scheduled exercises. Agencies or vendors who respond to this request for information are invited to provide general comments with regard to the evaluation for NIJ RT&E Center to consider, including which uses of the system and which performance metrics are appropriate for the evaluation. It should be noted that the purpose of the evaluation is to assess the utility of UAS technology; this includes assessment of both current and possible future practices. The Center is not evaluating the participating law enforcement agencies, just the application of using UAS for Crash Scene Reconstruction. Information will be obtained through responses to the information requested below as a baseline for initial information gathering from responding law enforcement agencies. Follow up discussions will be conducted in some cases. The request for information is intended to reach a consistent understanding of the needs for UAS for Crash Scene Reconstruction and the ways each agency uses the technology.

Information sought includes the following:

1. Law Enforcement Agency Information

a. Agency Name

b. Agency Location

c. Agency Point of Contact

d. Number of crash scene reconstructions in the past year

e. Primary tools used for crash scene reconstruction

f. Number of crash scene reconstructions in the past year using UAS only

g. Number of certified reconstructionists on staff

h. Total number of operational flights since your agency's implementation of the UAS

i. Number of operational flights in the past year

j. Future plans for operational use of UAS

k. Federal Aviation Administration Certificates of Waiver or Authorization documentation, if applicable

2. UAS Technology Information

a. UAS Vendor Name, System Name, and Model Number (may be plural)

b. Sensors available

c. Current sensor use

d. List of additional components and accessories

e. Previous system deployment scenarios or locations

f. Types of data currently stored in reconstruction records database

g. Personnel/operators required and training

h. Manufacturer suggested retail price, without optional features, accessories or service plans

i. Any additional information not covered above

3. Current and planned capabilities

a. Types of Crash Scene Reconstruction data collected by UAS

b. Capabilities to support a forensically sound process for preserving the integrity of collected data for use as evidence

c. Types of analytic techniques used (e.g., photogrammetry, 3D modeling) and methods used to preserve evidentiary value of analytical results

d. Installation, Start-up, Launch, and tear-down times

e. Type of data output and processes used to ensure its forensic value

f. Types of real-time monitoring features

g. Other features or capabilities not covered above

Protection of Sensitive Information: Organizations responding to this request for information should be aware of the following guidelines for handling of information:

1. The NIJ RT&E Center does not require or desire access to privileged information. For example, while the Center has interest in data pertaining to reconstruction, such as road closure time, tools utilized, and manpower, the Center has no interest in sensitive information, such as names or other Personally Identifiable Information. The Center will work with participating organizations to prevent disclosure of sensitive private information to the representatives of the NIJ RT&E Center.

2. Results of the operational evaluation will be published to ensure maximum usefulness to the law enforcement community. Participating law enforcement organizations will be provided an opportunity to review documents prior to any public release to ensure that the content of these documents does not in any way compromise their operations.

DATES: Responses to this request will be accepted through 11:59 p.m. Eastern Time on August 31, 2016.

ADDRESSES: Responses to this request may be submitted electronically in the body of or as an attachment to an email sent to administrator@nijrtecenter.org with the recommended subject line “UAS Federal Register Response.” Questions and responses may also be sent by mail (please allow additional time for processing) to the address: National Criminal Justice Research, Test and Evaluation Center, ATTN: UAS Federal Register Response, Johns Hopkins University Applied Physics Laboratory, 11100 Johns Hopkins Road, Mail Stop 17N444, Laurel, MD 20723-6099.

FOR FURTHER INFORMATION CONTACT: For more information on this request for information contact Emre Gunduzhan (NIJ RT&E Center) at (240) 228-7269 or administrator@nijrtecenter.org. For more information on the NIJ RT&E Center, visit http://nij.gov/funding/awards/pages/award-detail.aspx?award=2013-MU-CX-K111 and view the description or contact Martin Novak (NIJ Research Division) at (202) 598-7795. Please note that these are not toll-free telephone numbers.

Nancy Rodriguez,
Director, National Institute of Justice.

[FR Doc. 2016-15804 Filed 7-1-16; 8:45 am]

BILLING CODE 4410-18-P